DEPARTMENT OF JUSTICE

Office of Justice Programs

[OJP (NIJ) Docket No. 1593]

Request for Manufacturer Involvement in National Institute of Justice (NIJ) Standard Development Efforts

AGENCY: National Institute of Justice, Office of Justice Programs, DOJ.

ACTION: Notice of Request for Manufacturer Involvement in NIJ Standard Development Efforts.

SUMMARY: The National Institute of Justice (NIJ) is in the process of developing the performance standards identified below:

• Ballistic-resistant Body Armor (revision)

• Protective Helmets (revision)

• Stab-resistant Body Armor (revision)

• License Plate Readers (new version)

• Interview Room Recording Systems (new version)

Participation by manufacturers is requested via any or all of the options listed:

1. Attendance at workshops. Progress reports will be presented and questions will be addressed in workshops targeted toward informing stakeholders and interested parties. Comments and suggestions relating to the revision will be discussed. Such workshops will be announced in advance via Federal Register Notice, which will also provide logistics and registration information.

2. Participation in webinars. To provide a greater opportunity for involvement and the exchange of information, manufacturers and other private-sector entities are invited to participate in periodic NIJ-sponsored webinars. Such webinars will be announced via www.nij.gov/standards, and those interested in participating should check this site periodically for webinar details, scheduled dates, and the registration process.

3. One-on-one discussions: In the event that obtaining technical information on specific aspects of the manufacturing or testing processes is deemed critical to the development of a standard, the NIJ Special Technical Committee working on that standard may request one-on-one discussions with manufacturers. The opportunity for such discussions is open to any manufacturer of the type equipment being addressed by the respective committee. Manufacturers choosing to be available for one-on-one discussions are asked to notify NIJ, providing contact information and identifying the standard of interest. NIJ will maintain a spreadsheet of available participants.

Debra Stoe is the NIJ Program Manager responsible for this work, and Casandra Robinson is the point of contact for Ms. Stoe. Questions and/or notification of interest in one-on-one discussions may be submitted to Casandra Robinson at casandra.robinson@usdoj.gov.

FOR FURTHER INFORMATION CONTACT: Casandra Robinson by telephone at 202-305-2596 [Note: this is not a toll-free telephone number], or by email at casandra.robinson@usdoj.gov.

John H. Laub,
Director, National Institute of Justice.

[FR Doc. 2012-16128 Filed 6-29-12; 8:45 am]

BILLING CODE 4410-18-P